DEPARTMENT OF AGRICULTURE

Rural Housing Service

Notice of Funds Availability for the Section 533 Housing Preservation Grants for Fiscal Year 2005

Announcement Type: Initial Notice inviting applications from qualified applicants for Fiscal Year 2005.

Catalog of Federal Domestic Assistance Numbers (CFDA): 10.433.

SUMMARY: The Rural Housing Service (RHS) announces that it is soliciting competitive applications under its Housing Preservation Grant (HPG) program. The HPG program is a grant program which provides qualified public agencies, private nonprofit organizations, and other eligible entities grant funds to assist very low- and low-income homeowners in repairing and rehabilitating their homes in rural areas. In addition, the HPG program assists rental property owners and cooperative housing complexes in repairing and rehabilitating their units if they agree to make such units available to low- and very low-income persons. This action is taken to comply with Agency regulations found in 7 CFR part 1944, subpart N, which require the Agency to announce the opening and closing dates for receipt of pre-applications for HPG funds from eligible applicants. The intended effect of this Notice is to provide eligible organizations notice of these dates.

DATES: The closing deadline for receipt of all applications in response to this Notice is 5 p.m., local time for each Rural Development State Office on May 13, 2005. The application closing deadline is firm as to date and hour. RHS will not consider any application that is received after the closing deadline. Applicants intending to mail applications must provide sufficient time to permit delivery on or before the closing deadline date and time. Acceptance by the United States Postal Service or private mailer does not constitute delivery. Facsimile (FAX) and postage due applications will not be accepted.

SUPPLEMENTARY INFORMATION:

Paperwork Reduction Act

The reporting requirements contained in this Notice have been approved by the Office of Management and Budget under Control Number 0575-0115.

Program Administration

I. Funding Opportunities Description

The funding instrument for the HPG Program will be a grant agreement. The term of the grant cannot exceed 1 year without Agency consent. Applicants should contact the Rural Development State Office to determine the allocation and the State maximum grant level, if any.

II. Award Information

For Fiscal Year 2005, $8,810,944 is available for the HPG Program. A set aside of $892,800 has been established for grants located in Empowerment Zones, Enterprise Communities, and REAP Zones and other funds will be distributed under a formula allocation to States pursuant to 7 CFR part 1940, subpart L, “Methodology and Formulas for Allocation of Loan and Grant Program Funds.” Decisions on funding will be based on pre-applications.

III. Eligibility Information

7 CFR part 1944, subpart N provides details on what information must be contained in the pre-application package. Contact the Rural Development State office to receive further information on the State allocation of funds and copies of the pre-application package. Eligible entities for these competitively awarded grants include State and local governments, nonprofit corporations, federally recognized Indian tribes, and consortia of eligible entities.

As part of the application, all applicants must also provide a Dun and Bradstreet Data Universal Numbering System (DUNS) number. As required by the Office of Management and Budget (OMB), all grant applicants must provide a DUNS number when applying for Federal grants, on or after October 1, 2003. Organizations can receive a DUNS number at no cost by calling the dedicated toll-free DUNS number request line at 1-866-705-5711. Additional information concerning this requirement is provided in a policy directive issued by OMB and published in the Federal Register on June 27, 2003 (68 FR 38402-38405).

IV. Application and Submission Information

Applicants wishing to apply for assistance must make its statement of activities available to the public for comment. The applicant(s) must announce the availability of its statement of activities for review in a newspaper of general circulation in the project area and allow at least 15 days for public comment. The start of this 15-day period must occur no later than 16 days prior to the last day for acceptance of pre-applications by RHS.

Applicants must also contact the Rural Development State Office, serving the place in which they desire to submit an application to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office

Suite 601 Sterling Centre

4121 Carmichael Road

Montgomery, AL 36106-3683

(334) 279-3400

TDD (334) 279-3495

James B. Harris

Alaska State Office

800 West Evergreen, Suite 201

Palmer, AK 99645

(907) 761-7740

TDD (907) 761-8905

Debbie Andrys

Arizona State Office

Phoenix Courthouse and Federal Building

230 North First Ave., Suite 206

Phoenix, AZ 85003-1706

(602) 280-8765

TDD (602) 280-8706

Johnna Vargas

Arkansas State Office

700 W. Capitol Ave., Rm. 3416

Little Rock, AR 72201-3225

(501) 301-3258

TDD (501) 301-3063

Clinton King

California State Office

430 G Street, #4169

Davis, CA 95616-4169

(530) 934-4614 ext. 123

TDD (530) 792-5848

Linda Eveland

Colorado State Office

655 Parfet Street, Room E100

Lakewood, CO 80215

(720) 544-2923

TDD (800) 659-2656

Mary Summerfield

Connecticut

Served by Massachusetts State Office

Delaware and Maryland State Office

4607 South Dupont Highway

PO Box 400

Camden, DE 19934-9998

(302) 697-4353

TDD (302) 697-4303

Pat Baker

Florida & Virgin Islands State Office

4440 N.W. 25th Place

Gainesville, FL 32606-6563

(352) 338-3465

TDD (352) 338-3499

Elizabeth M. Whitaker

Georgia State Office

Stephens Federal Building

355 E. Hancock Avenue

Athens, GA 30601-2768

(706) 546-2164

TDD (706) 546-2034

Wayne Rogers

Hawaii State Office

(Services all Hawaii, American Samoa, Guam, and Western Pacific)

Room 311, Federal Building

154 Waianuenue Avenue

Hilo, HI 96720

(808) 933-8305

TDD (808) 933-8321

Jack Mahan

Idaho State Office

Suite A1

9173 West Barnes Dr.

Boise, ID 83709

(208) 378-5628

TDD (208) 378-5644

LaDonn McElligott

Illinois State Office

2118 West Park Court, Suite A

Champaign, IL 61821-2986

(217) 403-6222

TDD (217) 403-6240

Barry L. Ramsey

Indiana State Office

5975 Lakeside Boulevard

Indianapolis, IN 46278

(317) 290-3100 (ext. 423)

TDD (317) 290-3343

John Young

Iowa State Office

210 Walnut Street Room 873

Des Moines, IA 50309

(515) 284-4493

TDD (515) 284-4858

Sue Wilhite

Kansas State Office

1303 SW First American Place, Suite 100

Topeka, KS 66604-4040

(785) 271-2721

TDD (785) 271-2767

Virginia M. Hammersmith

Kentucky State Office

771 Corporate Drive, Suite 200

Lexington, KY 40503

(859) 224-7325

TDD (859) 224-7422

Beth Moore

Louisiana State Office

3727 Government Street

Alexandria, LA 71302

(318) 473-7962

TDD (318) 473-7655

Yvonne R. Emerson

Maine State Office

967 Illinois Ave., Suite 4

PO Box 405

Bangor, ME 04402-0405

(207) 990-9110

TDD (207) 942-7331

Bob Nadeau

Maryland

Served by Delaware State Office

Massachusetts, Connecticut, & Rhode Island State Office

451 West Street Suite 2

Amherst, MA 01002

(413) 253-4315

TDD (413) 253-4590

Paul Geoffroy

Michigan State Office

3001 Coolidge Road, Suite 200

East Lansing, MI 48823

(517) 324-5192

TDD (517) 337-6795

Ghulam R. Simbal

Minnesota State Office

375 Jackson Street Building, Suite 410

St. Paul, MN 55125

(651) 602-7804

TDD (651) 602-7830

Thomas Osborne

Mississippi State Office

Federal Building, Suite 831

100 W. Capitol Street

Jackson, MS 39269

(601) 965-4325

TDD (601) 965-5850

Darnella Smith-Murray

Missouri State Office

601 Business Loop 70 West

Parkade Center, Suite 235

Columbia, MO 65203

(573) 876-9303

TDD (573) 876-9480

Becky Eftink

Montana State Office

900 Technology Blvd, Suite B

Bozeman, MT 59771

(406) 585-2515

TDD (406) 585-2562

Deborah Chorlton

Nebraska State Office

Federal Building, Room 152

100 Centennial Mall N

Lincoln, NE 68508

(402) 437-5035

TDD (402) 437-5093

Sharon Kluck

Nevada State Office

1390 South Curry Street

Carson City, NV 89703-9910

(775) 887-1222 (ext. 25)

TDD (775) 885-0633

Angilla Denton

New Hampshire State Office

Concord Center

Suite 218, Box 317

10 Ferry Street

Concord, NH 03301-5004

(603) 223-6046

TDD (603) 229-0536

Jim Fowler

New Jersey State Office

5th Floor North, Suite 500

8000 Midlantic Drive

Mt. Laurel, NJ 08054

(856) 787-7740

TDD (856) 787-7784

George Hyatt, Jr.

New Mexico State Office

6200 Jefferson St., NE, Room 255

Albuquerque, NM 87109

(505) 761-4944

TDD (505) 761-4938

Carmen N. Lopez

New York State Office

The Galleries of Syracuse

441 S. Salina Street, Suite 357 5th Floor

Syracuse, NY 13202

(315) 477-6404

TDD (315) 477-6447

Tia Baker

North Carolina State Office

4405 Bland Road, Suite 260

Raleigh, NC 27609

(919) 873-2066

TDD (919) 873-2003

William A. Hobbs

North Dakota State Office

Federal Building, Room 208

220 East Rosser

PO Box 1737

Bismarck, ND 58502

(701) 530-2046

TDD (701) 530-2113

Barry Borstad

Ohio State Office

Federal Building, Room 507

200 North High Street

Columbus, OH 43215-2477

(614) 255-2418

TDD (614) 255-2554

Melodie Taylor-Ward

Oklahoma State Office

100 USDA, Suite 108

Stillwater, OK 74074-2654

(405) 742-1070

TDD (405) 742-1007

Ivan Graves

Oregon State Office

101 SW Main, Suite 1410

Portland, OR 97204-3222

(503) 414-3351

TDD (503) 414-3387

Diana Chappell

Pennsylvania State Office

One Credit Union Place, Suite 330

Harrisburg, PA 17110-2996

(717) 237-2282

TDD (717) 237-2261

Martha E. Hanson

Puerto Rico State Office

IBM Building, Suite 601

Munoz Rivera Ave. #654

San Juan, PR 00918

(787) 766-5095 (ext. 249)

TDD (787) 766-5332

Lourdes Colon

Rhode Island

Served by Massachusetts State Office

South Carolina State Office

Strom Thurmond Federal Building

1835 Assembly Street, Room 1007

Columbia, SC 29201

(803) 253-3432

TDD (803) 765-5697

Larry D. Floyd

South Dakota State Office

Federal Building, Room 210

200 Fourth Street, SW

Huron, SD 57350

(605) 352-1132

TDD (605) 352-1147

Roger Hazuka or Pam Reilly

Tennessee State Office

Suite 300

3322 West End Avenue

Nashville, TN 37203-1084

(615) 783-1375

TDD (615) 783-1397

Larry Kennedy

Texas State Office

Federal Building, Suite 102

101 South Main

Temple, TX 76501

(254) 742-9758

TDD (254) 742-9712

Julie Hayes

Utah State Office

Wallace F. Bennett Federal Building

125 S. State Street, Room 4311

Salt Lake City, UT 84138

(801) 524-4325

TDD (801) 524-3309

Janice Kocher

Vermont State Office

City Center, 3rd Floor

89 Main Street

Montpelier, VT 05602

(802) 828-6021

TDD (802) 223-6365

Heidi Setien

Virgin Islands

Served by Florida State Office

Virginia State Office

Culpeper Building, Suite 238

1606 Santa Rosa Road

Richmond, VA 23229

(804) 287-1596

TDD (804) 287-1753

CJ Michels

Washington State Office

1835 Black Lake Blvd., Suite B

Olympia, WA 98512

(360) 704-7730

TDD (360) 704-7742

Robert L. Lund

Western Pacific Territories

Served by Hawaii State Office

West Virginia State Office

Federal Building

75 High Street, Room 320

Morgantown, WV 26505-7500

(304) 284-4889

TDD (304) 284-4836

Craig St. Clair

Wisconsin State Office

4949 Kirschling Court

Stevens Point, WI 54481

(715) 345-7608 (ext.151)

TDD (715) 345-7614

Peter Kohnen

Wyoming State Office

PO Box 82601

Casper, WY 82602-5006

(307) 233-6715

TDD (307) 233-6733

Jack Hyde

FOR FURTHER INFORMATION CONTACT: For general information, applicants may contact Bonnie Edwards-Jackson, Senior Loan Specialist, Multi-Family Housing Processing Division, Rural Housing Service, United States Department of Agriculture, Stop 0781, 1400 Independence Avenue, SW., Washington, DC 20250-0781, telephone (202) 690-0759 (voice) (this is not a toll free number) or (800) 877-8339 (TDD-Federal Information Relay Service).

V. Application Review Information

All applications for Section 533 funds must be filed with the appropriate Rural Development State Office and must meet the requirements of this Notice. Pre-applications determined not eligible and/or not meeting the selection criteria will be notified by the Rural Development State Office.

All applicants will file an original and two copies of Standard Form (SF) 424, “Application For Federal Assistance,” and supporting information with the appropriate Rural Development State Office. A pre-application package, including SF-424, is available in any Rural Development State Office.

All pre-applications shall be accompanied by the following information which Rural Development will use to determine the applicant's eligibility to undertake the HPG program and to evaluate the pre-application under the project selection criteria of § 1944.679 of 7 CFR part 1944, subpart N.

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with § 1944.672 of 7 part CFR 1944, subpart N, and the provisions for compliance with Stipulation I, A-G of the Programmatic Memorandum of Agreement, also known as PMOA, (RD Instruction 2000-FF, available in any Rural Development State Office) in accordance with § 1944.673(b) of 7 part CFR 1944, subpart N;

(4) The development standard(s) the applicant will use for the housing preservation work; and, if not the Rural Development standards for existing dwellings, the evidence of its acceptance by the jurisdiction where the grant will be implemented;

(5) The time schedule for completing the program;

(6) The staffing required to complete the program;

(7) The estimated number of very low- and low-income minority and nonminority persons the grantee will assist with HPG funds; and, if a rental property or cooperative assistance program, the number of units and the term of restrictive covenants on their use for very low- and low-income;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of a indirect cost proposal as required in 7 CFR parts 3015 and 3016, when the applicant has another source of federal funding in addition to the Rural Development HPG program;

(11) A brief description of the accounting system to be used;

(12) The method of evaluation to be used by the applicant to determine the effectiveness of its program which encompasses the requirements for quarterly reports to Rural Development in accordance with § 1944.683(b) of 7 part CFR 1944, subpart N and the monitoring plan for rental properties and cooperatives (when applicable) according to § 1944.689 of 7 part CFR 1944, subpart N;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in § 1944.671(b) of 7 CFR part 1944, subpart N.

(b) Complete information about the applicant's experience and capacity to carry out the objectives of the proposed HPG program.

(c) Evidence of the applicant's legal existence, including, in the case of a private nonprofit organization, a copy of, an accurate reference to, the specific provisions of State law under which the applicant is organized; a certified copy of the applicant's Articles of Incorporation and Bylaws or other evidence of corporate existence; certificate of incorporation for other than public bodies; evidence of good standing from the State when the corporation has been in existence 1 year or more; and the names and addresses of the applicant's members, directors and officers. If other organizations are members of the applicant-organization, or the applicant is a consortium, pre-applications should be accompanied by the names, addresses, and principal purpose of the other organizations. If the applicant is a consortium, documentation showing compliance with § 1944.656(4)(ii) of 7 CFR part 1944, subpart N will also be included.

(d) For a private nonprofit entity, the most recent audited statement and a current financial statement dated and signed by an authorized officer of the entity showing the amounts and specific nature of assets and liabilities together with information on the repayment schedule and status of any debt(s) owed by the applicant.

(e) A brief narrative statement which includes information about the area to be served and the need for improved housing (including both percentage and the actual number of both low-income and low-income minority households and substandard housing), the need for the type of housing preservation assistance being proposed, the anticipated use of HPG resources for historic properties, the method of evaluation to be used by the applicant in determining the effectiveness of its efforts.

(f) Applicant must submit an original and one copy of Form RD 1940-20 prepared in accordance with Exhibit F-1 of 7 part CFR 1944, subpart N.

(g) Applicant must also submit a description of its process for:

(1) Identifying and rehabilitating properties listed on or eligible for listing on the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF, available in any Rural Development State Office).

(h) The applicant must also submit evidence of the State Historic Preservation Office's, also known as SHPO, concurrence in the proposal, or in the event of nonconcurrence, a copy of SHPO's comments together with evidence that the applicant has sought the Advisory Council on Historic Preservation's advice as to how the disagreement might be resolved, and a copy of any advice provided by the Council.

(i) The applicant must submit written statements and related correspondence reflecting compliance with § 1944.674(a) and (c) of 7 CFR part 1944, subpart N regarding consultation with local government leaders in the preparation of its program and the consultation with local and state government pursuant to the provisions of Executive Order 12372.

(j) The applicant is to make its statement of activities available to the public for comment prior to submission to Rural Development pursuant to § 1944.674(b) of 7 CFR part 1944, subpart N. The application must contain a description of how the comments (if any were received) were addressed.

(k) The applicant must submit an original and one copy of Form RD 400-1, “Equal Opportunity Agreement,” and Form 400-4, “Assurance Agreement Funds,” in accordance with § 1944.676 of 7 CFR part 1944, subpart N. Applicants should review 7 CFR part 1944, subpart N for a comprehensive list of all application requirements.

Selection Criteria

The Rural Development State Offices will utilize the following project selection criteria for applicants in accordance with § 1944.679 of 7 CFR part 1944, subpart N:

(a) Providing a financially feasible program of housing preservation assistance. Financially feasible is defined as proposed assistance which will be affordable to the intended recipient or result in affordable housing for very low- and low-income persons.

(b) Serving eligible rural areas with a concentration of substandard housing for households with very low- and low-income.

(c) Being an eligible applicant as defined in § 1944.658 of 7 CFR part 1944, subpart N.

(d) Meeting the requirements of consultation and public comment in accordance with § 1944.674 of 7 CFR part 1944, subpart N.

(e) Submitting a complete pre-application as outlined in § 1944.676 of 7 CFR part 1944, subpart N.

For applicants meeting all of the requirements listed above, the Rural Development State Offices will use weighted criteria as selection for the grant recipients. Each pre-application and its accompanying statement of activities will be evaluated and, based solely on the information contained in the pre-application, the applicant's proposal will be numerically rated on each criteria within the range provided. The highest-ranking applicant(s) will be selected based on allocation of funds available to the state.

(a) Points are awarded based on the percentage of very low-income persons that the applicant proposes to assist, using the following scale:

| Points
(1) More than 80% | 20
(2) 61% to 80% | 15
(3) 41% to 60% | 10
(4) 20% to 40% | 5
(5) Less than 20% | 0

(b) The applicant's proposal may be expected to result in the following percentage of HPG fund use (excluding administrative costs) to total cost of unit preservation. This percentage reflects maximum repair or rehabilitation with the least possible HPG funds due to leveraging, innovative financial assistance, owner's contribution or other specified approaches. Points are awarded based on the following percentage of HPG funds (excluding administrative costs) to total funds:

| Points
(1) 50% or less | 20
(2) 51% to 65% | 15
(3) 66% to 80% | 10
(4) 81% to 95% | 5
(5) 96% to 100% | 0

(c) The applicant has demonstrated its administrative capacity in assisting very low- and low-income persons to obtain adequate housing based on the following:

(1) The organization or a member of its staff has 2 or more years experience successfully managing and operating a rehabilitation or weatherization type program, including Rural Development's HPG Program: 10 points.

(2) The organization or a member of its staff has 2 or more years experience successfully managing and operating a program assisting very low- and low-income persons obtain housing assistance: 10 points.

(3) If the organization has administered grant programs, there are no outstanding or unresolved audit or investigative findings which might impair carrying out the proposal: 10 points.

(d) The proposed program will be undertaken entirely in rural areas outside Metropolitan Statistical Areas, also known as MSAs, identified by Rural Development as having populations below 10,000 or in remote parts of other rural areas (i.e., rural areas contained in MSAs with less than 5,000 population) as defined in § 1944.656 of 7 CFR part 1944, subpart N: 10 points.

(e) The program will use less than 20 percent of HPG funds for administration purposes:

| Points
(1) More than 20% |
(2) 20% | 0
(3) 19% | 1
(4) 18% | 2
(5) 17% | 3
(6) 16% | 4
(7) 15% or less | 5
* Not eligible

(f) The proposed program contains a component for alleviating overcrowding as defined in § 1944.656 of 7 CFR part 1944, subpart N: 5 points.

In the event more than one pre-application receives the same amount of points, those pre-applications will then be ranked based on the actual percentage figure used for determining the points. Further, in the event that pre-applications are still tied, then those pre-applications still tied will be ranked based on the percentage figures used for administration purposes (low to high). Further, for applications where assistance to rental properties or cooperatives is proposed, those still tied will be further ranked based on the number of years the units are available for occupancy under the program (a minimum of 5 years is required). For this part, ranking will be based from most to least number of years. Finally, if there is still a tie, then a lottery system will be used.

Dated: March 3, 2005.
Russell T. Davis,
Administrator, Rural Housing Service.

[FR Doc. 05-4775 Filed 3-11-05; 8:45 am]

BILLING CODE 3410-XV-P